DEPARTMENT OF STATE

[Public Notice 5093]

Culturally Significant Objects Imported for Exhibition Determinations: Assorted Egyptian Treasures for Public Exhibition

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that the objects covered by this Notice, imported from abroad for temporary exhibition within the United States, are of cultural significance. The objects are imported pursuant to loan agreements with the foreign owners. I also determine that the exhibition or display of the exhibit objects as part of the exhibition “Mummy: the inside story”, at the Houston Museum of Natural Science, Houston, TX, from on or about September 30, 2005, until on or about February 12, 2006, is in the national interest. I further determine that the exhibition or display of certain of the exhibit objects as part of the exhibition “Treasures of Ancient Art from the British Museum”, at the Oklahoma City Museum of Art, Oklahoma City, OK, from on or about August 31, 2006, until on or about November 26, 2006; at the Cummer Museum of Art and Gardens, Jacksonville, FL, from on or about December 22, 2006, until on or about March 18, 2007; at the North Carolina Museum of Art, Raleigh, NC, from on or about April 15, 2007, until on or about July 8, 2007; at the Joslyn Art Museum, Omaha, NE, from on or about August 3, 2007, until on or about October 28, 2007; at the Albuquerque Museum of Art and History, Albuquerque, NM, from on or about November 16, 2007, until on or about February 10, 2008; and at possible additional venues yet to be determined, is in the national interest. Public Notice of these Determinations is ordered to be published in the Federal Register.

FOR FURTHER INFORMATION CONTACT: For further information, including a list of the exhibit objects, contact Richard Lahne, Attorney-Adviser, Office of the Legal Adviser, U.S. Department of State (telephone: 202/453-8058). The address is U.S. Department of State, SA-44, 301 4th Street, SW., Room 700, Washington, DC 20547-0001.

Dated: May 25, 2005.
C. Miller Crouch,
Principal Deputy Assistant Secretary for Educational and Cultural Affairs, Department of State.

[FR Doc. 05-10982 Filed 6-1-05; 8:45 am]

BILLING CODE 4710-08-P